POSTAL REGULATORY COMMISSION

Sunshine Act Meetings

FEDERAL REGISTER CITATION OF PREVIOUS ANNOUNCEMENT: 78 FR 60334 (October 1, 2013).

PREVIOUSLY ANNOUNCED TIME AND DATE OF THE MEETING: Wednesday, October 9, 2013, beginning at 11 a.m.

CHANGES IN THE MEETING: The Commission cancelled the October 9, 2013 meeting. The Commission posted notice of the cancellation on its Web site on Tuesday, October 1, 2013. The Commission is not rescheduling the October 9, 2013 meeting.

CONTACT PERSON FOR MORE INFORMATION: Stephen L. Sharfman, General Counsel, at 202-789-6820.

Ruth Ann Abrams,
Acting Secretary.

[FR Doc. 2013-25350 Filed 10-23-13; 4:15 pm]

BILLING CODE 7710-FW-P